DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, August 24, 2004, 8:30 a.m. to August 24, 2004, 5 p.m., Bethesda Marriott, 5151 Pooks Hill Road, Bethesda, MD, 20814 which was published in the Federal Register on August 20, 2004, FR 69:51689.

This Telephone Conference Meeting will be held on September 8, 2004 at 11 a.m. at 6701 Democracy Boulevard, Suite 800, Bethesda, MD. The meeting is closed to the public.

Dated: August 24, 2004.
LaVerne Y. Stringfield,
Director, Office of Federal Advisory Committee Policy.

[FR Doc. 04-19845 Filed 8-30-04; 8:45 am]

BILLING CODE 4140-01-M